FEDERAL ELECTION COMMISSION

Sunshine Act Meeting

TIME AND DATE: Tuesday, August 31, 2021 at 10:00 a.m. and its Continuation at the Conclusion of the Open Meeting on September 2, 2021.

PLACE: 1050 First Street NE, Washington, DC. (This Meeting Will be a Virtual Meeting).

STATUS: This Meeting will be Closed to the Public.

MATTERS TO BE CONSIDERED: Compliance matters pursuant to 52 U.S.C. 30109.

Investigatory records compiled for law enforcement purposes and production would disclose investigative techniques.

Matters concerning participation in civil actions or proceedings or arbitration.

* * * * *

CONTACT PERSON FOR MORE INFORMATION: Judith Ingram, Press Officer, Telephone: (202) 694-1220.

Vicktoria J. Allen,
Acting Deputy Secretary of the Commission.

[FR Doc. 2021-18372 Filed 8-23-21; 11:15 am]

BILLING CODE 6715-01-P